DEPARTMENT OF HOMELAND SECURITY

Federal Emergency Management Agency

44 CFR Parts 59 and 64

[Docket ID FEMA-2019-0016]

RIN 1660-AA92

Revisions to Publication Requirements for Community Eligibility Status Information Under the National Flood Insurance Program; Correction

AGENCY: Federal Emergency Management Agency; DHS.

ACTION: Final rule; correction.

SUMMARY: On October 30, 2020, FEMA published in the Federal Register a final rule revising publication requirements for community eligibility status information under the National Flood Insurance Program that contained erroneous amendatory instructions. This final rule provides corrections to those instructions, to be used in lieu of the information published October 30.

DATES: This correction is effective December 2, 2020.

FOR FURTHER INFORMATION CONTACT: Adrienne Sheldon, Supervisory Emergency Management Specialist, Floodplain Management Division, Federal Insurance and Mitigation Administration, Federal Emergency Management Agency, 400 C Street SW, Washington, DC 20472, adriennel.sheldon@fema.dhs.gov, (202) 674-1087.

SUPPLEMENTARY INFORMATION: In FR Doc. 2020-23970, beginning on page 68782 in the Federal Register of Friday, October 30, 2020, the following corrections are made:

PART 64—[Corrected]

1. On page 68790, in the first column, in part 64, the authority citation “The authority citation for part 61 continues to read as follows:” is corrected to read “The authority citation for part 64 continues to read as follows:”

2. On page 68790, in the first column, in part 64, the authority citation “Authority: 42 U.S.C. 4001 et seq.; Reorganization Plan No. 3 of 1978, 3 CFR, 1978 Comp.; p. 329; E.O. 12127, 44 FR 19367, 3 CFR, 1979 Comp.; p. 376.” is corrected to read “Authority: 42 U.S.C. 4001 et seq., Reorganization Plan No. 3 of 1978, 3 CFR, 1978 Comp., p. 329; E.O. 12127, 44 FR 19367, 3 CFR, 1979 Comp., p. 376.”

3. On page 68790, in the first column, in part 64, instruction number 4 is corrected to read “Revise § 64.6 to read as follows:”.

Dated: November 12, 2020.
Shabnaum Q. Amjad
Deputy Associate Chief Counsel, Regulatory Affairs Division, Office of Chief Counsel Federal Emergency Management Agency.

[FR Doc. 2020-25320 Filed 11-16-20; 8:45 am]

BILLING CODE 9111-52-P